DEPARTMENT OF ENERGY

10 CFR Part 810

RIN 1994-AA02

Assistance to Foreign Atomic Energy Activities

AGENCY: National Nuclear Security Administration (NNSA), Department of Energy (DOE).

ACTION: Notice of a second public meeting and extension of comment period.

SUMMARY: On September 7, 2011, DOE issued a notice of proposed rulemaking (NOPR) to propose the first comprehensive updating of regulations concerning Assistance to Foreign Atomic Energy Activities since 1986. The NOPR reflected a need to make the regulations consistent with current global civil nuclear trade practices and nonproliferation norms, and to update the activities and technologies subject to the Secretary of Energy's specific authorization and DOE reporting requirements. It also identified destinations with respect to which most assistance would be generally authorized. Remaining destinations would require a specific authorization by the Secretary of Energy. After careful consideration of all comments received, DOE published a supplemental notice of proposed rulemaking (SNOPR) on August 2, 2013, to respond to those comments, propose new or revised rule changes, and afford interested parties an opportunity to comment.

A public meeting on the SNOPR was held at DOE's headquarters on August 5, 2013. A second public meeting will be held on November 15, 2013 at the Washington Grand Hyatt, 1000 H St. NW., Washington, DC 20001.

In conjunction with the timing of this second public meeting, the Department is extending the comment period to November 29, 2013. The extension will facilitate conducting the second public meeting and afford additional time for the public to review and comment on the proposed regulation. The Department looks forward to hearing feedback from the public on the proposed regulations.

DATES: DOE will continue to accept written comments on the SNOPR published August 2, 2013 (78 FR 46829) submitted electronically or postmarked on or before November 29, 2013. The second public meeting will be held on November 15, 2013, from 9 a.m. to 12 p.m. at the Washington Grand Hyatt, 1000 H St. NW., Washington, DC 20001. Due to space limitations, DOE asks that interested persons send their requests to attend this meeting, by no later than 4:30 p.m. on November 13, 2013.

ADDRESSES: Interested persons should send their requests to attend the second public meeting via email to Part810.SNOPR@nnsa.doe.gov. DOE will confirm its receipt of requests. Comments may be submitted on the SNOPR, identified by RIN 1994-AA02, by any of the following methods:

1. Federal Rulemaking Portal: http://www.regulations.gov/#!docketDetail;D=DOE-HQ-2011-0035. Follow the instructions for submitting comments.

2. Email: Part810.SNOPR@hq.doe.gov. Include RIN 1994-AA02 in the subject line of the message.

3. Mail: Richard Goorevich, Senior Policy Advisor, Office of Nonproliferation and International Security, NA-24, National Nuclear Security Administration, Department of Energy, 1000 Independence Avenue SW., Washington, DC 20585.

Due to potential delays in DOE's receipt and processing of mail sent through the U.S. Postal Service, DOE encourages responders to submit comments electronically to ensure timely receipt.

All submissions must include the RIN for this rulemaking, RIN 1994-AA02. For additional information and instructions on submitting comments, see the “Public Comment Procedures” heading of the SUPPLEMENTARY INFORMATION section of the SNOPR.

FOR FURTHER INFORMATION CONTACT: Richard Goorevich, Senior Policy Advisor, Office of Nonproliferation and International Security, NA-24, National Nuclear Security Administration, Department of Energy, 1000 Independence Avenue SW., Washington, DC 20585, telephone 202-586-0589; Janet Barsy, Office of the General Counsel, GC-53, Department of Energy, 1000 Independence Avenue SW., Washington, DC 20585, telephone 202-586-3429; or Katie Strangis, National Nuclear Security Administration, 1000 Independence Avenue SW., Washington, DC 20585, telephone 202-586-8623.

SUPPLEMENTARY INFORMATION:

I. Background

II. Second Public Meeting

III. Extension of Comment Period

I. Background

On September 7, 2011, DOE issued a notice of proposed rulemaking (NOPR) to propose the first comprehensive updating of regulations concerning Assistance to Foreign Atomic Energy Activities since 1986. (76 FR 55278) The NOPR reflected a need to make the regulations consistent with current global civil nuclear trade practices and nonproliferation norms, and to update the activities and technologies subject to the Secretary of Energy's specific authorization and DOE reporting requirements. It also identified destinations with respect to which most assistance would be generally authorized and destinations that would require a specific authorization by the Secretary of Energy. After careful consideration of all comments received, DOE published a SNOPR on August 2, 2013, to respond to those comments, propose new or revised rule changes, and afford interested parties a second opportunity to comment. (78 FR 46829)

II. Second Public Meeting

A public meeting on the SNOPR was held at the DOE Forrestal Building located in Washington, DC, on August 5, 2013. A second public meeting on the SNOPR will be held on November 15, 2013, from 9 a.m. to 12 p.m. at the Washington Grand Hyatt, 1000 H St, NW Washington, DC, 20001. Interested persons should send their requests to attend the second public meeting via email to Part810.SNOPR@nnsa.doe.gov. DOE will confirm its receipt of requests.

Persons interested in giving an oral presentation at the second public meeting should provide a daytime phone number where the person can be reached in the email requesting attendance. Each oral presentation may be limited and may in no instance be longer than 20 minutes. Persons making an oral presentation are requested to provide 3 copies of their prepared statement to the public meeting and submit it at the registration desk. DOE reserves the right to select the persons who will speak. DOE also reserves the right to schedule speakers' presentations and to establish the procedures for conducting the meeting. A DOE official will be designated to preside at the meeting.

The meeting will not be a judicial or evidentiary-type hearing. Any further procedural rules for the conduct of the meeting will be announced by the presiding official. After the public meeting, interested persons may submit comments until the end of the comment period. A transcript of the meeting will be made, and the entire record of this rulemaking will be retained by DOE and posted at regulations.gov.

III. Extension of Comment Period

Due to the lapse in the fiscal year 2014 appropriation and associated impacts on government operations, the Department will extend the comment period to November 29, 2013. The extension will facilitate conducting the second public meeting and afford additional time for the public to review and comment on the SNOPR.

As provided in the SNOPR, if you submit information that you believe to be exempt by law from public disclosure, you should submit one complete copy, as well as one copy from which the information claimed to be exempt by law from public disclosure has been deleted. DOE is responsible for the final determination with regard to disclosure or nondisclosure of the information and for treating it accordingly under the DOE Freedom of Information regulations at 10 CFR 1004.11.

Issued in Washington, DC, on October 23, 2013.
Richard Goorevich,
Senior Policy Advisor.

[FR Doc. 2013-25551 Filed 10-28-13; 8:45 am]

BILLING CODE 6450-01-P